DEPARTMENT OF TRANSPORTATION

Federal Motor Carrier Safety Administration

[Docket No. FMCSA-2006-26367]

Motor Carrier Safety Advisory Committee; Charter Renewal

AGENCY: Federal Motor Carrier Safety Administration (FMCSA), Department of Transportation (DOT).

ACTION: Announcement of charter renewal of the Motor Carrier Safety Advisory Committee (MCSAC).

SUMMARY: FMCSA announces the charter renewal of the MCSAC, a Federal advisory committee that provides FMCSA with advice and recommendations on motor carrier safety programs and motor carrier safety regulations through a consensus process. This charter renewal is effective September 27, 2021, and will expire after 2 years unless it is renewed.

FOR FURTHER INFORMATION CONTACT: Ms. Shannon L. Watson, Senior Advisor to the Associate Administrator for Policy, Federal Motor Carrier Safety Administration, U.S. Department of Transportation, 1200 New Jersey Avenue SE, Washington, DC 20590, (202) 360-2925, mcsac@dot.gov.

SUPPLEMENTARY INFORMATION: Pursuant to section 14 of the Federal Advisory Committee Act (Pub. L. 92-463), FMCSA is giving notice of the charter renewal for the MCSAC. The MCSAC was established to provide FMCSA with advice and recommendations on motor carrier safety programs and motor carrier safety regulations. The MCSAC comprises up to 25 voting representatives from safety advocacy, safety enforcement officials, labor, and industry stakeholders of motor carrier safety. Applicants from all backgrounds are encouraged to apply; the diversity of the Committee helps ensure the requisite range of views and expertise necessary to discharge its responsibilities. See the MCSAC website for details on pending tasks at http://www.fmcsa.dot.gov/mcsac.

Larry W. Minor,
Associate Administrator for Policy.

[FR Doc. 2021-21448 Filed 9-30-21; 8:45 am]

BILLING CODE 4910-EX-P